DEPARTMENT OF HEALTH AND HUMAN SERVICES

Administration for Children and Families

[OMB #: 0970-0536]

Submission for Office of Management and Budget Review; Sexual Risk Avoidance Education Program Performance Analysis Study

AGENCY: Office of Planning, Research, and Evaluation, Administration for Children and Families, U.S. Department of Health and Human Services.

ACTION: Request for Public Comments.

SUMMARY: The Office of Planning, Research, and Evaluation (OPRE) and the Family and Youth Services Bureau (FYSB) in the Administration for Children and Families (ACF) request approval for a temporary extension of currently approved information collection activities and revisions to be implemented in 2026 for the Sexual Risk Avoidance Education (SRAE) Program Performance Analysis Study (PAS)(Office of Management and Budget (OMB) #: 0970-0536; expiration date December 31, 2025). The goal of the study is to collect, analyze and report on performance measures data for the SRAE program. The purpose of the request is to continue the ongoing data collection and submission of the performance measures by SRAE grant recipients. Revisions are proposed to the current performance measures, for implementation in July 2026, to address feedback from grant recipients to simplify and clarify participant surveys and to ensure the measures meet FYSB data needs.

DATES: Comments due January 16, 2026. OMB must decide about the collection of information between 30 and 60 days after publication of this document in the Federal Register. Therefore, a comment is best assured of having its full effect if OMB receives it within 30 days of publication.

ADDRESSES: The public may view and comment on this information collection request at: https://www.reginfo.gov/public/do/PRAViewICR?ref_nbr=202512-0970-004. You can also obtain copies of the proposed collection of information by emailing OPREinfocollection@acf.hhs.gov. Identify all requests by the title of the information collection.

SUPPLEMENTARY INFORMATION:

Description: The purpose of the SRAE program is to educate youth on how to voluntarily refrain from nonmarital sexual activity and prevent other youth risk behaviors. Data will continue to be used to determine if the SRAE grant recipients are meeting their programs' mission and priorities.

The SRAE performance measures are collected from SRAE grant recipients, program providers, and participants. The data include information on program structure, cost, and support for implementation; program attendance, reach, and dosage; the characteristics of youth involved in programming; youth sexual and other risky behavior prior to program participation; and youth sexual and other risky behavior intentions at program exit. The performance measures help the ACF program office and grant recipients to monitor and report on progress in implementing SRAE programs and inform technical assistance.

Some of the performance measures data come from youth participants through surveys SRAE grant recipients administer at program entry and exit. There are separate versions of the entry and exit surveys for middle school youth, which exclude some of the more sensitive items that are included in the versions for high school and older youth. There is also a shorter version of the entry survey for programs conducting impact studies, to reduce the burden on participants in those programs who are likely responding to other surveys as part of their impact study. Although there was a version of the exit survey for programs conducting impact studies in the past, it was removed through the previous OMB request, and youth in these programs now complete the same version of the exit survey as other youth.

For continuity, ACF proposes to use the currently approved materials through June 2026, after which revised versions of the performance measures would be implemented. This phased in approach will ease the transition for grant recipients by providing them with ample time for implementation and will allow for data consistency by not changing measures in the middle of a data collection year. The proposed revisions to the current performance measures address feedback from grant recipients to simplify and clarify participant surveys and ensure the measures meet FYSB data needs. The proposed revisions to the participant surveys were cognitively tested with program participants for clarity and to check burden estimates. The changes reduce the burden for completing the participant entry survey from 8 minutes to 5 minutes per response and the participant exit survey from 10 to 7 minutes. Overall, we expect a 61 percent reduction in the annual burden hours under this request compared to the previously approved annual burden.

Respondents: General Departmental (GDSRAE), State (SSRAE), and Competitive (CSRAE) grant recipients, their subrecipients, and program participants.

Instrument | Number of respondents (total over request period) | Number of responses per respondent (total over request period) | Average burden per response (in hours) | Annual burden (in hours)
Burden Estimates—Through June 2026
1. Participant Entry Survey | 104,606 | 1 | 0.1333 | 13,944
2 Participant Exit Survey | 81,854 | 1 | 0.1667 | 13,645
3. Performance Reporting Data Entry Form | 190 | 1 | 16 | 3,040
4. Subrecipient Data Collection and Reporting Form | 490 | 1 | 13 | 6,370
Estimated total and annual burden hour estimates through June 2026 | 36,999

Instrument | Number of respondents (total over request period) | Number of responses per respondent (total over request period) | Average burden per response (in hours) | Total burden (in hours) | Annual burden (in hours)
Annual Burden Estimates—July 2026 Forward
1. Participant Entry Survey | 523,030 | 1 | 0.0833 | 43,568 | 17,427
2. Participant Exit Survey | 409,270 | 1 | 0.1167 | 47,762 | 19,105
3. Performance Reporting Data Entry Form | 190 | 5 | 16 | 15,200 | 6,080
4. Subrecipient Data Collection and Reporting Form | 490 | 5 | 13 | 31,850 | 12,740
Estimated total and annual burden hours July 2026 forward | 138,380 | 55,352
Total Annual Burden Estimates
Estimated total and annual burden hours | 175,379 | 58,460

Authority: 42 U.S.C. 710(b)(6).

Mary C. Jones,
ACF/OPRE Certifying Officer.

[FR Doc. 2025-23078 Filed 12-16-25; 8:45 am]

BILLING CODE 4184-83-P